ENVIRONMENTAL PROTECTION AGENCY

[EPA-HQ-OAR-2022-0040; FRL-10542-01-OMS]

Information Collection Request Submitted to OMB for Review and Approval; Comment Request; NESHAP for Clay Ceramics Manufacturing, Glass Manufacturing, and Secondary Nonferrous Metals Processing Area Sources (Renewal)

AGENCY: Environmental Protection Agency (EPA).

ACTION: Notice.

SUMMARY: The Environmental Protection Agency has submitted an information collection request (ICR), NESHAP for Clay Ceramics Manufacturing, Glass Manufacturing, and Secondary Nonferrous Metals Processing Area Sources (EPA ICR Number 2274.07, OMB Control Number 2060-0606), to the Office of Management and Budget (OMB) for review and approval in accordance with the Paperwork Reduction Act. This is a proposed extension of the ICR, which is currently approved through January 31, 2023. Public comments were previously requested, via the Federal Register on July 22, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 27, 2023.

ADDRESSES: Submit your comments, referencing Docket ID Number EPA-HQ-OAR-2022-0040, to: (1) EPA online using https://www.regulations.gov/ (our preferred method), or by email to docket@epa.gov, or by mail to: EPA Docket Center, Environmental Protection Agency, Mail Code 28221T, 1200 Pennsylvania Ave. NW, Washington, DC 20460; and (2) OMB's Office of Information and Regulatory Affairs using the interface at: https://www.reginfo.gov/public/do/PRAMain. Find this particular information collection by selecting “Currently under Review—Open for Public Comments” or by using the search function.

The EPA's policy is that all comments received will be included in the public docket without change, including any personal information provided, unless the comment includes profanity, threats, information claimed to be Confidential Business Information (CBI), or other information whose disclosure is restricted by statute.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at: https://www.regulations.gov, or in person, at the EPA Docket Center, WJC West Building, Room 3334, 1301 Constitution Ave. NW, Washington, DC. The telephone number for the Docket Center is: 202-566-1744. For additional information about EPA's public docket, visit http://www.epa.gov/dockets.

Abstract: The National Emission Standards for Hazardous Air Pollutants (NESHAP) for Clay Ceramics Manufacturing, Glass Manufacturing, and Secondary Nonferrous Metals Processing Area Sources (40 CFR part 63, subparts RRRRRR, SSSSSS, and TTTTTT) were proposed on September 20, 2007; and promulgated on December 26, 2007. These regulations apply to the following existing and new facilities: (1) clay ceramics manufacturing facilities that process more than 50 tons per year of wet clay and are area sources of hazardous air pollutants (HAP); (2) glass manufacturing facilities that use continuous furnaces to produce glass that contains HAP as raw materials and are area sources of HAP; and (3) secondary nonferrous metals processing facilities that are area sources of HAP. Clay ceramics manufacturing facilities include facilities that manufacture pressed tile, sanitaryware, dinnerware, or pottery with an atomized glaze spray booth or kiln that fires glazed ceramic ware. Glass manufacturing facilities include facilities that manufacture flat glass, glass containers, or pressed and blown glass by melting a mixture of raw materials, to produce molten glass and form the molten glass into sheets, containers, or other shapes. Secondary nonferrous metals processing facilities means brass and bronze ingot making, secondary magnesium processing, or secondary zinc processing plants that use furnace melting operations to melt post-consumer nonferrous metal scrap to make products including bars, ingots, blocks, or metal powders. New facilities include those that commenced either construction, or modification or reconstruction after the date of proposal. This information is being collected to assure compliance with 40 CFR part 63, subparts RRRRRR, SSSSSS, and TTTTTT.

Form Numbers: None.

Respondents/affected entities: Area sources of clay ceramics manufacturing, glass manufacturing, and secondary nonferrous metals processing.

Respondent's obligation to respond: Mandatory (40 CFR part 63, subparts RRRRRR, SSSSSS, and TTTTTT).

Estimated number of respondents: 87 (total).

Frequency of response: Initially.

Total estimated burden: 1,970 hours (per year). Burden is defined at 5 CFR 1320.3(b).

Total estimated cost: $250,000 (per year), which includes $13,900 in annualized capital/startup and/or operation & maintenance costs.

Changes in the Estimates: The increase in burden from the most-recently approved ICR is due to an adjustment. The adjustment increase is due to an increase in the number of respondents, including one new respondent expected during the three-year period of this ICR. There is an increase in cost due to the increased number of respondents and due to the use of updated labor rates. This ICR uses labor rates from the most-recent Bureau of Labor Statistics report (September 2021) to calculate respondent burden costs.

The new source is not expected to incur capital costs; therefore, there is no change in the capital/startup costs from the most-recently approved ICR. There is an increase in O&M costs due to the use of updated labor rates associated with inspections of emission control systems for glass manufacturing facilities. This ICR uses the technical labor rate from the most-recent Bureau of Labor Statistics report (September 2021) to calculate respondent burden costs associated with inspection of emission control systems.

Courtney Kerwin,
Director, Regulatory Support Division.

[FR Doc. 2022-28077 Filed 12-27-22; 8:45 am]

BILLING CODE 6560-50-P